Proclamation 7699 of September 1, 2003

National Ovarian Cancer Awareness Month, 2003

By the President of the United States of America

A Proclamation

It is estimated that more than 25,000 American women will be diagnosed with ovarian cancer this year and that more than 14,000 will die from this disease. During National Ovarian Cancer Awareness Month, we seek to increase understanding of ovarian cancer and the importance of early detection, and to recognize the advances made to eliminate this disease.

Early detection and education are critical to treating ovarian cancer. Today, only half of the women diagnosed with this disease are expected to survive 5 years or more. However, the 5-year survival rate for those whose cancer is detected early is more than 90 percent. When the disease is discovered in its early stages, doctors are able to treat it with standard methods, such as surgery, chemotherapy, and radiation therapy.

Researchers have made significant progress in developing screening tests that can accurately diagnose ovarian cancer. Much work remains, however, before we can reliably detect the disease in its earliest stages when treatment is most effective. I urge all women to talk to their doctors about ovarian cancer and the best course of action to detect and treat this deadly disease. Doing so is particularly important for women aged 40 or older, those with a family history of ovarian cancer, and those with a personal history of breast, endometrial, or colon cancer. And I urge individuals across the country to learn more about this disease and what can be done to reduce the number of individuals who suffer from it.

In addition to encouraging early detection and increasing awareness about ovarian cancer, we must continue to advance our knowledge through research. Scientists at the Centers for Disease Control and Prevention, the National Cancer Institute, the Department of Defense, the Food and Drug Administration, other Federal agencies, and private companies are working hard to discover the causes of ovarian cancer and to design more effective screening and treatment options. Through their research, we hope to learn how to reduce the chances of developing this disease, how to recognize it in its earliest stages, and how to successfully treat women in every stage of ovarian cancer. The vision and determination of these professionals, along with the courage of the women who participate in clinical trials, are helping to turn today's research advances into tomorrow's success stories.

My Administration remains committed to supporting research efforts to help find a cure for ovarian cancer. My fiscal year 2004 budget proposal includes more than $5.6 billion for cancer research at the National Institutes of Health. This investment will lead to a better understanding of ovarian cancer and greater hope for women who suffer from this disease. Through education and continued research, we can win the fight against ovarian cancer and save the lives of thousands of American women.

NOW, THEREFORE, I, GEORGE W. BUSH, President of the United States of America, by virtue of the authority vested in me by the Constitution and laws of the United States, do hereby proclaim September 2003 as National Ovarian Cancer Awareness Month. I call upon the people of the United States to observe this month with appropriate programs and activities.

IN WITNESS WHEREOF, I have hereunto set my hand this first day of September, in the year of our Lord two thousand three, and of the Independence of the United States of America the two hundred and twenty-eighth.

B

[FR Doc. 03-22810

Filed 9-4-03; 8:45 am]

Billing code 3195-01-P